TENNESSEE VALLEY AUTHORITY

Meeting of the Regional Resource Stewardship Council

AGENCY: Tennessee Valley Authority (TVA).

ACTION: Notice of meeting.

SUMMARY: The Regional Resource Stewardship Council (RRSC) will hold its first meeting to consider various matters. Notice of this meeting is given under the Federal Advisory Committee Act, 5 U.S.C. App. 2, (FACA).

The meeting agenda includes the following:

1. Introductions/TVA River System Overview

2. FACA responsibilities and committee operation

3. Public comments

4. RRSC member comments

The meeting is open to the public. Members of the public who wish to make oral public comments may do so during the Public comments portion of the agenda. Up to one hour will be allotted for the Public comments with participation available on a first-come, first-served basis. Each speaker will have from 2-5 minutes to address the Council depending on the number who register at the door. Written comments are also invited and may be mailed to the Regional Resource Stewardship Council, Tennessee Valley Authority, 400 West Summit Hill Drive, WT 11A, Knoxville, Tennessee 37902-1499, or faxed to (865) 632-3146.

DATES: The meeting will be held on March 17, 2000, from 8:00 a.m. to 4:30 p.m., EST.

ADDRESSES: The meeting will be held at the Chattanooga Marriott, 2 Carter Plaza, Chattanooga, Tennessee, and will be open to the public. Anyone needing special access or accommodations should let the contact below know at least a week in advance.

FOR FURTHER INFORMATION CONTACT: Sandra L Hill, 400 West Summit Hill Drive, WT 11A, Knoxville, Tennessee 37902-1499, (865) 632-2333.

Dated: February 24, 2000.
Kathryn J. Jackson,
Executive Vice President, River System Operations & Environment, Tennessee Valley Authority.

[FR Doc. 00-4975 Filed 3-1-00; 8:45 am]

BILLING CODE 8120-08-P